DEPARTMENT OF COMMERCE

National Oceanic and Atmospheric Administration

RIN 0648-XH38

Magnuson-Stevens Act Provisions; General Provisions for Domestic Fisheries; Application for Exempted Fishing Permit

AGENCY: National Marine Fisheries Service (NMFS), National Oceanic and Atmospheric Administration (NOAA), Commerce.

ACTION: Notice; request for comments

SUMMARY: The Regional Administrator, Southwest Region, NMFS has made a preliminary determination that an application for an Exempted Fishing Permit (EFP) warrants further consideration. The application was submitted to NMFS by a California-based commercial fisherman requesting an exemption for a single vessel from the longline fishing prohibitions within the U.S. Exclusive Economic Zone (EEZ) off the West Coast during the 2008 fishing year beginning mid-September 2008, or, if administrative delays occur, during the 2009 fishing year beginning mid-September 2009. The Regional Administrator has also made a preliminary determination that the activities authorized under the EFP would be consistent with the goals and objectives of the Fishery Management Plan for U.S. West Coast Fisheries for Highly Migratory Species (HMS FMP). However, further review and consultation is necessary before a final determination is made to issue the EFP. Therefore, NMFS proposes to review the EFP and requests public comment on the application. The application is available for review on the NMFS Southwest Region website: https://swr.nmfs.noaa.gov/.

DATES: Comments must be received by May 27, 2008.

ADDRESSES: You may submit comments on this notice, identified by “RIN 0648-XH38” by any of the following methods:

• E-mail: LonglineEFP.SWR@noaa.gov. Include the RIN in the subject line of the message.

• Mail: Rodney R. McInnis, Regional Administrator, Southwest Region, NMFS, 501 West Ocean Blvd., Suite 4200, Long Beach, CA 90802-4213.

• Fax: (562) 980-4047.

FOR FURTHER INFORMATION CONTACT: Mark Helvey, Southwest Region, NMFS, (562) 980-4040.

SUPPLEMENTARY INFORMATION: An application for an EFP was submitted to the Pacific Fisheries Management Council (Council) by Peter Dupuy, a commercial fishing vessel owner, in March 2008. EFPs for fishing under the HMS FMP are governed by 50 CFR 600.745 and 660.718. The EFP would exempt a single vessel from following the gear and fishing restrictions at 50 CFR 660.712(a) implementing the HMS FMP that prohibit owners and operators of vessels registered for use of longline gear from using longline gear to fish for or target HMS within the U.S. EEZ. The applicant applied for the EFP with the intent to conduct an exploratory test fishery with a single vessel to gather information on the economic viability and environmental effects, including the potential impacts to protected species and non-target finfish interactions, of fishing for swordfish in the West Coast EEZ.

At its April 2008 meeting, the Council, with advice from its HMS Management Team and HMS Advisory Subpanel, adopted a preferred alternative for the EFP and forwarded that alternative to NMFS, recommending that the agency review the proposed EFP and, if consistent with Federal law, issue the permit. The Council recommended that the applicant be subject to a cap of one short-finned pilot whale and 12 striped marlin, and a prohibition for fishing off the State of Washington. The Council recommended that the fishery be managed through limits on the amount of incidental take of protected species that may be exposed to and adversely affected by this action. The limits will be established based upon Section 7 consultations under the Endangered Species Act by NMFS for marine mammals and sea turtles, and by the U. S. Fish and Wildlife Service for seabirds. If any one of the limits set by these consultations is reached by the fishery authorized by the EFP, the permit would be immediately revoked. The EFP would require 100 percent NMFS observer coverage. The Council's recommendations, described above, would be established as permit conditions.

If approved, the EFP would authorize a single vessel to longline fish in the EEZ off of Oregon and California. Under the proposed terms and conditions of the EFP, the vessel would target swordfish utilizing shallow-set longline gear which is set at a shallower depth (<100 m) than deep-set longline gear which is typically set in the deeper thermocline zone (~300-400 m) for tunas. The applicant would be allowed a maximum of four trips between September and December, 2008, or between September and December, 2009, and a maximum of 14 sets per trip. Fishing would neither be allowed within 50 nautical miles of the coastline nor within the Southern California Bight. The Bight is defined in general terms as coastal waters from Point Conception in the north to just past San Diego in the south, and extending offshore of San Nicolas Island (Channel Islands National Marine Sanctuary waters would be excluded from the fishing area). The mainline may not exceed 100 km and no more than 1,200 hooks may be deployed per set. The applicant would be required to use 18/0 circle hooks with a 10° offset and mackerel or mackerel-type bait (as described at 50 CFR 665.33(f) and (g), respectively). To reduce potential interactions with seabirds, gear could not be set until one hour after local sunset and must be fully deployed before local sunrise. A certain percentage of the deployed gear would be required to be outfitted with time/depth recorders to measure fishing depth; the percentage would be determined by NMFS based on the amount of data needed to extrapolate the depth of all the hooks. The applicant would be required to use a NMFS-certified shark de-hooking device to improve the post-release survivability of incidentally captured sharks.

Aside from the exemptions described above, the vessel fishing under the EFP would be subject to all other regulations implementing the HMS FMP, including measures to protect sea turtles, marine mammals, and seabirds.

The EFP application would be effective for 2008 or 2009 only. In accordance with NOAA Administrative Order 216-6, an appropriate National Environmental Policy Act document will be completed prior to the issuance of the EFP. A draft Environmental Assessment on the EFP was presented to the Council and public in April 2008. Further review and consultation is necessary before a final determination is made to issue the EFP. As required in Section 7(a)(2) of the Endangered Species Act (16 U.S.C. 1531 et seq.), NMFS will engage in formal consultation to determine if the proposed action is likely to jeopardize the continued existence and recovery of any endangered or threatened species or result in the destruction or adverse modification of critical habitat.

Dated: April 22, 2008.
Emily H. Menashes
Acting Director, Office of Sustainable Fisheries, National Marine Fisheries Service.

[FR Doc. E8-9049 Filed 4-24-08; 8:45 am]

BILLING CODE 3510-22-S